DEPARTMENT OF HEALTH AND HUMAN SERVICES

Centers for Disease Control and Prevention

[60Day-05-05CL]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-371-5983 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Formative Evaluation of Adults' and Children's Views Related to Promotion of Healthy Food Choices—New—National Center for Chronic Disease Prevention and Health Promotion (NCCDPHP), Centers for Disease Control and Prevention (CDC).

Background and Brief Description: In FY 2004, Congress directed the Centers for Disease Control and Prevention (CDC) to conduct formative research on the attitudes of children and parents' regarding nutrition behavior. The FY 04 Appropriation Language instructs CDC to research parents' and children's viewpoints on “the characteristics of effective marketing of foods to children to promote healthy food choices.” Upon completion, a report detailing CDC's findings will be submitted to the appropriate Congressional Committees.

In response, CDC has contracted with the Academy for Educational Development (AED) to conduct focus groups to identify key audience concepts around food choices and to develop and test concepts and messages aimed at increasing healthy food choices among children and youth. For the research to be useful to Congress and to the nation's public health agenda, a thorough understanding of a child's attitude toward healthy food choices at varied developmental stages, and the barriers and motivations for adopting and sustaining those choices is essential. Also important is a thorough understanding of those who can influence the health behaviors of children and youth. This research will facilitate the development of messages, strategies, and tactics that resonate with children, youth, parents, and other influencers.

The focus groups will be conducted in three phases: Phase One will address “tweens” (ages 9-13) and parents of tweens; Phase 2 will focus on children 6-8 years old and their parents, and Phase 3 will conduct groups with parents of children under 6 years old. The research will begin with tweens. Current market literature and opinion-leaders both strongly suggest that tweens are highly influential in their parents' nutrition decisions, as well as those made by their younger siblings.

For each phase, 36 focus groups will be conducted; thus, three phases will amount to 108 total focus groups. In Phases 1 and 2, focus groups will involve both young people and their parents or key caregivers. In this way, CDC can gain insight into both parents' and children's views, as well as the dynamics of family shared decision-making around food choices and attitudes toward healthy eating patterns. For Phase 3, 36 focus groups about the toddler/young child set (ages 1-5) will be held with their parents and other important influencers such as educators, primary caregivers, and health care providers.

All focus group recruiting will incorporate appropriate representation of diverse ethnic groups, and the groups will be held in several cities to ensure broad geographic representation.

The intent of this audience research is to solicit input and feedback from potential audiences. The information gathered will be used to develop, refine, and modify messages and strategies to increase healthy food choices by children and parents. There is no cost to participants other that their time.

Estimate of Annualized Burden Hours
Type of respondents | Number of respondents | Number of responses/ respondents | Average burden/response (in hours) | Total burden (in hrs)
Phase 1: Recruitment | 528 | 1 | 10/60 | 88
Phase 1: Tweens (ages 9-13); 24 groups of 11 people per group | 264 | 1 | 2.0 | 528
Phase 1: Parents of tweens; 12 groups of 10 people per group | 120 | 1 | 2.0 | 240
Phase 2: Recruitment | 528 | 1 | 10/60 | 88
Phase 2: Elementary aged children (ages 6-8); 24 groups of 11 children per group) | 264 | 1 | 2.0 | 528
Phase 2: Parents of elementary aged children; 12 groups of 10 people per group | 120 | 1 | 2.0 | 240
Phase 3: Recruitment | 720 | 1 | 10/60 | 120
Phase 3: Parents of preschoolers (ages 1-5); 36 groups of 10 people per group | 360 | 1 | 2.0 | 720
Total |  |  |  | 2552

Dated: June 6, 2005.
Betsey Dunaway,
Acting Reports Clearance Officer, Centers for Disease Control and Prevention.

[FR Doc. 05-11517 Filed 6-9-05; 8:45 am]

BILLING CODE 4163-18-P